ENVIRONMENTAL PROTECTION AGENCY

[FRL-7514-8]

Technical Peer Review Meeting on the Draft Document Entitled, Exposure and Human Health Evaluation of Airborne Pollution from the World Trade Center Disaster

AGENCY: Environmental Protection Agency.

ACTION: Notice of meeting.

SUMMARY: The U.S. Environmental Protection Agency (EPA) is announcing a technical peer review meeting, organized and convened by Versar, Inc., a contractor to the National Center for Environmental Assessment (NCEA) within EPA's Office of Research and Development, for review of the draft document entitled, Exposure and Human Health Evaluation of Airborne Pollution from the World Trade Center Disaster (EPA/600/P-02/002A). The document was prepared by NCEA. The draft document was already subjected to public review and comment. NCEA will consider those public comments and any additional comments provided by the expert peer-review panel in revising the document.

DATES: The peer review meeting will be held on Monday, July 14 and Tuesday, July 15, 2003, from 9 a.m. to 5 p.m., eastern daylight time (EDT) each day. On December 27, 2002, the draft report was announced in the Federal Register (67 FR 79079) and made available for a 60-day public comment period that ended on February 25, 2003. The comment period was subsequently extended (Federal Register (68 FR 10723) dated March 6, 2003) until April 7, 2003. Copies of the public comments received by EPA have been provided to the expert peer reviewers.

ADDRESSES: The meeting will be held at the Sofitel New York Hotel, 45 West 44th Street, New York, NY 10036; telephone (212) 354-8844. Versar, Inc., an EPA contractor, will convene and facilitate the meeting. To attend the meeting as an observer, register by July 10, 2003, 5 p.m. EDT by visiting http://www.versar.com/epa/wtcpeerreview.htm or contacting Ms. Traci Bludis, Versar, Inc.; telephone: (703) 750-3000, extension 449; facsimile: (703) 642-6954; e-mail: bluditra@versar.com. There will be a limited time for oral comments from the public (registration is required). If you wish to make a statement during the observer comment period of the workshop, please check the appropriate box when you register at the Web site. Space is limited, and registration for attendance and oral comments will be accepted on a first-come, first-served basis.

FOR FURTHER INFORMATION CONTACT: For workshop information and logistics please contact Versar, Inc. The draft document, Exposure and Human Health Evaluation of Airborne Pollution from the World Trade Center Disaster, is available via the Internet on the NCEA Web site at http://www.epa.gov/ncea/wtc.htm. Copies are not available from Versar, Inc. For information regarding the draft document, please contact Linda C. Tuxen, U.S. Environmental Protection Agency, Office of Research and Development, National Center for Environmental Assessment (8601-D), Washington, DC 20460; telephone: (202) 564-3332; fax: (202) 565-0090; e-mail: tuxen.linda@epa.gov.

SUPPLEMENTARY INFORMATION: Immediately following the September 11, 2001, terrorist attack on New York City's World Trade Center, many federal agencies, including the EPA, were called upon to focus their technical and scientific expertise on the national emergency issues. EPA, other federal agencies, New York City, and New York State public health and environmental authorities focused on numerous air monitoring activities to better understand the ongoing human health impact of the disaster. Many EPA offices and programs quickly became involved with these activities, providing scientific, engineering, public health, and management expertise to help cope with the aftereffects of the collapse of the World Trade Center.

As part of these activities, a human health evaluation of exposure to air pollutants resulting from the World Trade Center disaster was initiated. This draft evaluation is the subject of the technical peer review meeting announced today. The primary purpose and scope of the draft report were to evaluate the environmental levels of various air pollutants to which the public could potentially be exposed as a result of the collapse of the towers. These data were evaluated in terms of available health benchmark concentrations and typical background concentrations for New York City or other urban areas. The draft evaluation concludes that, with the exception of those exposed immediately following the collapse and perhaps during the next few days, people in the surrounding community are not likely to suffer from serious long- or short-term health effects. While the primary focus of EPA's draft evaluation is on outdoor levels of various air pollutants to which the public could potentially be exposed as a result of the collapse of the towers, some information on indoor and occupational exposures is summarized in EPA's draft report.

Both the processes of public review and comment and expert scientific peer review are the usual steps that EPA takes to ensure full and open participation by interested parties. These steps help EPA identify areas where a draft document could be improved to strengthen both clarity and completeness of the draft. Comments from the public and from the expert peer reviewers during this meeting will be used to improve the draft report before it is finalized.

Dated: June 12, 2003.
George W. Alapas,
Deputy Director, National Center for Environmental Assessment.

[FR Doc. 03-15364 Filed 6-17-03; 8:45 am]

BILLING CODE 6560-50-P